DEPARTMENT OF ENERGY

Federal Energy Regulatory Commission

[Docket No. RP97-13-008]

East Tennessee Natural Gas Company; Notice of Negotiated Rate Filing

October 2, 2003.

Take notice that on September 24, 2003, East Tennessee Natural Gas Company (East Tennessee) tendered for filing as part of its FERC Gas Tariff, Second Revised Volume No. 1, Fourth Revised Sheet No. 177, included in Appendix A thereto, proposed to be effective on November 1, 2003, or such later date as the facilities constructed for the Patriot Project are placed into service.

East Tennessee states that the purpose of this filing is to implement four negotiated rate agreements and one discounted rate agreement for firm service to be rendered to four customers on East Tennessee's Patriot Project (Docket No. CP01-415), and to update the list of non-conforming agreements contained in Section 45 of the General Terms and Conditions.

East Tennessee requests that the Commission accept this filing by October 15, 2003. In addition, East Tennessee requests that the Commission grant any authorizations and waivers of the Commission's regulations to the extent necessary to permit the tariff sheet and the agreements to be made effective as proposed.

East Tennessee states that copies of the filing were mailed to all affected customers of East Tennessee and interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the eFiling link.

Protest Date: October 6, 2003.

Magalie R. Salas,
Secretary.

[FR Doc. E3-00030 Filed 10-8-03; 8:45 am]

BILLING CODE 6717-01-P